DEPARTMENT OF COMMERCE

International Trade Administration

[A-580-810, A-583-815]

Welded ASTM A-312 Stainless Steel Pipe From the Republic of Korea and Taiwan: Continuation of Antidumping Duty Orders

AGENCY: Enforcement and Compliance, International Trade Administration, Department of Commerce.

SUMMARY: As a result of the determinations by the U.S. Department of Commerce (Commerce) and the U.S. International Trade Commission (ITC) that revocation of the antidumping duty (AD) orders on welded ASTM A-312 stainless steel pipe (WSSP) from the Republic of Korea (Korea) and Taiwan would likely lead to continuation or recurrence of dumping, and material injury to an industry in the United States, Commerce is publishing a notice of continuation of these AD orders.

DATES: Applicable December 29, 2022.

FOR FURTHER INFORMATION CONTACT: Jacqueline Arrowsmith, AD/CVD Operations, Enforcement and Compliance, International Trade Administration, U.S. Department of Commerce, 1401 Constitution Avenue NW, Washington, DC 20230; telephone: (202) 482-5255.

SUPPLEMENTARY INFORMATION:

Background

On December 30, 1992, Commerce published in the Federal Register the AD order and clarification of final determination for WSSP from Korea, as well as the amended final determination and AD order for WSSP from Taiwan.¹

¹ See Antidumping Duty Order and Clarification of Final Determination: Certain Welded Stainless Steel Pipes from Korea, 57 FR 62301 (December 30, 1992); see also Amended Final Determination and Antidumping Duty Order: Certain Welded Stainless Steel Pipe from Taiwan, 57 FR 62300 (December 30, 1992); Notice of Amended Final Determination and Antidumping Duty Order: Certain Welded Stainless Steel Pipes from Taiwan, 59 FR 6619; and Notice of Amended Final Determination and Antidumping Duty Order: Certain Welded Stainless Steel Pipe from the Republic of Korea, 60 FR 10064 (February 23, 1995) (collectively, Orders).

On May 2, 2022, the ITC instituted,² and Commerce initiated,³ the five-year sunset reviews of the Orders, pursuant to section 751(c) of the Tariff Act of 1930, as amended (the Act). As a result of its reviews, Commerce determined that revocation of the Orders would likely lead to continuation or recurrence of dumping and, therefore, notified the ITC of the magnitude of the margins of dumping likely to prevail should the Orders be revoked.⁴ On December 19, 2022, the ITC published its determinations, pursuant to sections 751(c) and 752(a) of the Act, that revocation of the Orders would likely lead to continuation or recurrence of material injury to an industry in the United States within a reasonably foreseeable time.⁵

² See Certain Welded Stainless Steel Pipe from South Korea and Taiwan; Institution of Five-Year Reviews, 87 FR 25668 (May 2, 2022).

³ See Initiation of Five-Year Sunset Reviews, 87 FR 25617.

⁴ See Welded ASTM A-312 Stainless Steel Pipe from the Republic of Korea and Taiwan: Final Results of Expedited Fifth Sunset Reviews of the Antidumping Duty Orders, 87 FR 65572 (October 31, 2022).

⁵ See Certain Welded Stainless Steel Pipe from South Korea and Taiwan, 87 FR 77636 (December 19, 2022).

Scope of the Orders

The products covered by the Orders are shipments of welded stainless steel pipe (WSSP) from Korea and Taiwan that meet the standards and specifications set forth by the American Society for Testing and Materials (ASTM) for the welded form of chromium-nickel pipe designated ASTM A-312. WSSP is produced by forming stainless steel flat rolled products into a tubular configuration and welding along the seam. WSSP is a commodity product generally used as a conduit to transmit liquids or gases. Major applications for WSSP include, but are not limited to, digester lines, blow lines, pharmaceutical lines, petrochemical stock lines, brewery process and transport lines, general food processing lines, automotive paint lines and paper process machines. Imports of these products are currently classifiable under the following Harmonized Tariff Schedule of the United States (HTSUS) subheadings: 7306.40.5005, 7306.40.5015, 7306.40.5040, 7306.40.5065 and 7306.40.5085. Although the HTSUS subheadings include both pipes and tubes, the scope of the Orders is limited to welded austenitic stainless steel pipes. Although the HTSUS subheadings are provided for convenience and customs purposes, the written description of the scope of the Orders is dispositive.

Continuation of the Orders

As a result of the determinations by Commerce and the ITC that revocation of the Orders would likely lead to a continuation or a recurrence of dumping and of material injury to an industry in the United States, pursuant to section 751(d)(2) of the Act and 19 CFR 351.218, Commerce hereby orders the continuation of the Orders. U.S. Customs and Border Protection will continue to collect AD cash deposits at the rates in effect at the time of entry for all imports of subject merchandise. The effective date of the continuation of the Orders will be the date of publication in the Federal Register of this notice of continuation. Pursuant to section 751(c)(2) of the Act and 19 CFR 351.218(c)(2), Commerce intends to initiate the next five-year review of the Orders not later than 30 days prior to the fifth anniversary of the effective date of continuation.

Administrative Protective Order

This notice also serves as the only reminder to parties subject to an administrative protective order (APO) of their responsibility concerning the return/destruction or conversion to judicial protective order of proprietary information disclosed under APO in accordance with 19 CFR 351.305(a)(3). Timely notification of the return or destruction of APO materials or conversion to judicial protective order is hereby requested. Failure to comply is a violation of the APO which may be subject to sanctions.

Notification to Interested Parties

These five-year (sunset) reviews and this notice are in accordance with sections 751(c) and 751(d)(2) of the Act and published in accordance with section 777(i) of the Act, and 19 CFR 351.218(f)(4).

Dated: December 22, 2022.
Lisa W. Wang,
Assistant Secretary for Enforcement and Compliance.

[FR Doc. 2022-28381 Filed 12-28-22; 8:45 am]

BILLING CODE 3510-DS-P